CONSUMER PRODUCT SAFETY COMMISSION

16 CFR Part 1130

Requirements for Consumer Registration of Durable Infant or Toddler Products; Final Rule

AGENCY: Consumer Product Safety Commission.

ACTION: Final rule.

SUMMARY: The Consumer Product Safety Commission (“Commission”) is issuing a final rule under section 104(d) of the Consumer Product Safety Improvement Act of 2008 (“CPSIA”). In accordance with that section, the final rule requires each manufacturer of a durable infant or toddler product to: provide a postage-paid consumer registration form with each product; keep records of consumers who register their products with the manufacturer; and permanently place the manufacturer's name and contact information, model name and number, and the date of manufacture on each such product. The final rule specifies the text and format for the registration form and establishes requirements for registration through the internet.

DATES: Effective Date: The rule will become effective on June 28, 2010.

Compliance Dates: The compliance date will be June 28, 2010 for the following products: full-size cribs and nonfull-size cribs; toddler beds; high chairs, booster chairs, and hook-on chairs; bath seats; gates and other enclosures for confining a child; play yards; stationary activity centers; infant carriers; strollers; walkers; swings; and bassinets and cradles. The compliance date will be December 29, 2010 for the following products: children's folding chairs, changing tables, infant bouncers, infant bath tubs, bed rails and infant slings.

FOR FURTHER INFORMATION CONTACT: Marc Schoem, Deputy Director, Office of Compliance and Field Operations, Consumer Product Safety Commission, 4330 East West Highway, Bethesda, MD 20814; telephone (301) 504-7520; mschoem@cpsc.gov.

SUPPLEMENTARY INFORMATION:

A. Background

The Consumer Product Safety Improvement Act of 2008 (“CPSIA”, Pub. L. 110-314) was enacted on August 14, 2008. Section 104(d) of the CPSIA requires the U.S. Consumer Product Safety Commission (“Commission”) to promulgate a final consumer product safety rule that requires manufacturers of durable infant or toddler products to: (1) Provide with each product a postage-paid consumer registration form; (2) keep records of consumers who register such products with the manufacturer; and (3) permanently place the manufacturer name and contact information, model name and number, and the date of manufacture on each such product. The Commission is now issuing such a final rule.¹

¹ Commissioner Thomas H. Moore issued a statement, a copy of which is available from the Commission's Office of the Secretary or from the Commission's Web site, http://www.cpsc.gov.

Section 104(d) of the CPSIA specifies many of the requirements for the registration rule. It establishes certain requirements for the registration forms and specifies recordkeeping and notification requirements. The statute permits the Commission to prescribe the exact text and format for the registration forms, and the final rule does so.

The CPSIA also requires the Commission to assess consumer registration requirements in the future. Within four years of enactment of the CPSIA, the Commission must conduct a study on the effectiveness of the consumer registration forms and whether to expand registration to other children's products. The Commission also must regularly review recall notification technology and assess the effectiveness of such technology. The Commission must inform Congress of these assessments.

On June 29, 2009, the Commission issued a notice of proposed rulemaking (“NPR”) proposing consumer registration requirements under section 104(d) of the CPSIA. 74 FR 30903. The Commission received 19 comments on the NPR raising a variety of issues discussed in section B of this preamble.

The NPR discussed the Commission's previous activities regarding product registration cards. This experience and activities considering how to improve recall effectiveness have informed the development of this rule. The Commission has also taken into consideration the car seat registration program administered by the National Highway Traffic Safety Administration (“NHTSA”). 49 CFR 571.213S5.8.

B. Response to Comments on the NPR

Comments that the Commission received on the NPR and the Commission's responses to them are discussed in this section of the preamble.

1. Definition of “Durable Infant or Toddler Products”

Comments

The Commission received 11 comments pertaining to the products that should be covered under the registration provision in section 104 of the CPSIA. Most of the comments requested the Commission to identify with specificity exactly which products will be covered by the rule. Commenters indicated that the open-ended nature of the proposed regulation leaves room for possible application to products that were never intended to be covered and they could be subject to the possibility of severe civil penalties for not including a registration card with a product that CPSC considers to be covered.

Several commenters stated that Congress intended the product registration cards to apply to a narrow subset of juvenile products and that the Commission should limit registration to the specified 12 product categories listed in section 104(f)(2).

On the other hand, a few commenters stated that the CPSC should not limit the rule to just the 12 product categories specified in the statute, but needs to leave room for new products coming into the market that may meet the definition of a “durable infant or toddler product.”

Others suggested ways to provide guidance on products that would be considered “durable infant or toddler products” such as using the Juvenile Products Manufacturers Association (JPMA) certification program and based on that program adding children's folding chairs, changing tables, infant bouncers and bed rails to the statutory list of products.

Commenters requested that footwear, mattresses, sports equipment, playground equipment, toys and textile items, including clothing, blankets and bedding, not be considered durable infant or toddler products for the purpose of this rule.

Another commenter expressed agreement with the NPR that infant slings, changing tables, bouncers, children's folding chairs, infant bath tubs, and bed rails are products that warrant registration. The commenter also suggested that crib mattresses, toy chests, backpack carriers, doorway jumpers, and bike seats/trailers could warrant inclusion in the registration card program.

Another commenter requested that the CPSC clarify that the exclusion for car seat products that already carry the NHTSA registration card includes travel systems that have infant carriers sold with stroller bases. This commenter also urged the Commission to clarify that replacement parts, spare parts, or service parts for durable infant and toddler products are not independently subject to the registration card and product identification requirements of section 104.

Response

The Commission agrees that the rule needs to identify the items covered with specificity in order for manufacturers to know whether the registration requirements apply to their particular product. Because the statute has a broad definition of a durable infant or toddler product but also includes 12 specific product categories, additional items can and should be included in the definition, but should also be specifically listed in the rule. As noted in the NPR, in addition to the 12 product categories mentioned in section 104(f)(2)(A) through (L), children's folding chairs, changing tables, bouncers, infant bath tubs, bed rails, and infant slings should also be included in the rule. The Commission believes these additional six items meet the definition of a durable infant or toddler product. In addition, currently they are covered under, or are in the process of being covered under, a voluntary standard. The Commission could add other products in the future through notice and comment rulemaking.

Based on the definition of durable infant or toddler products and the original 12 product categories identified in the CPSIA, the Commission does not believe that some other types of products, such as footwear, mattresses, sports equipment, playground equipment, or toys, should be included in the final rule. The Commission agrees that registration is required for finished products only, not for replacement parts.

2. Definition of “Durability”

Comments

Six comments were received regarding the definition of “durability.” The comments were similar to those discussed above, indicating concern that the program will be interpreted and applied in an inconsistent manner unless the Commission provides a precise scope of the “durability” requirement. One commenter indicated that relying on the NPR preamble's discussion would result in unnecessary confusion about products meant to be used by children under one year of age, which may be used for only twelve months after purchase, and whether they would be considered to have an “average life” of three years or more.

Another commenter suggested that registration requirements should be applicable to a specific subset of children's products based on “durability” and that the Commission should limit the interpretation of durable infant or toddler products to those durable goods that are composed primarily, if not nearly entirely, of rigid components (e.g., a molded plastic base, frame, or supporting mechanism) and should not include products composed exclusively or nearly exclusively of textiles, such as infant slings.

One commenter suggested that the price paid by the consumer should be considered when determining what is a durable nursery product. Others objected that 3 years was too short a period and that using the average product life as an indicator of durable goods was not sufficiently objective.

Response

The Commission believes that these comments illustrate some of the problems that may be encountered with an open-ended definition of durable infant or toddler product rather than a specific list.

3. Responsible Party for Registration Cards and Database

Comments

Most of the nine comments received regarding the responsible party for the registration cards and databases agree that domestic manufacturers should be responsible for their products. In the case of a foreign manufacturer, most commenters stated it should be the importer of record who is responsible. Commenters stated that the rule should also permit an importer to put its name and contact information on the registration cards rather than the name of the manufacturer, and to put its name on the product rather than the name of the foreign manufacturer. This process would avoid consumer confusion and prevent the potential disclosure of confidential business information. Commenters recommended that in the case of private label items, the private labeler or sole retailer should be able to make a contractual agreement with the manufacturer to assume responsibility.

One commenter suggested that the final rule should allow for retailers to be given the option to accept product registration cards, that retailers should be able to at least try to help consumers complete the product registration cards, and that large retail outlets may want to establish retail kiosks where consumers could electronically submit their information directly to the manufacturer to register their durable infant or toddler product.

Response

The Commission agrees that the domestic manufacturer and the importer of foreign manufactured products should be responsible for the registration cards and for maintaining the registration database. In the case of foreign manufactured products, the Commission agrees that the importer should be allowed to put its name and United States contact information on the card and product. The Commission has written the final rule to reflect this change.

Through contractual agreement with the manufacturer, a private labeler or retailer may take responsibility for the registration cards and database. However, ultimately, the manufacturer is responsible for registration. Similarly, nothing prevents retailers from accepting the registration cards and otherwise encouraging registration; however, under the statute, the manufacturer ultimately bears responsibility for registration and is the party the Commission will proceed against should it pursue any enforcement action.

4. Request To Exempt Businesses That Demonstrate They Already Collect Contact Information

Comments

The Commission received three comments requesting that companies that can demonstrate that they already collect and maintain contact information should not have to include registration cards with each product. Commenters opined that this would avoid redundant information and fulfill the intent of the law. One commenter suggested that registration via Web sites is more effective since card data becomes outdated very quickly and a web-based solution allows updating of addresses over time.

Response

Section 104(d)(1)(A) of the CPSIA states that each manufacturer of a durable infant or toddler product must provide consumers with a postage-paid consumer registration form with each such product. In addition, the statute requires that the form be attached to the product so that, as a practical matter, the consumer notices and handles it. CPSIA, 104(d)(2)(c). No exemptions were listed. Therefore, while consumers have the option of using electronic registration, it is not a substitute for the product registration card being included with the durable infant or toddler product.

5. Allow Flexibility for Product Identification

Comments

Three comments requested flexibility for product identification. One commenter stated that the form should be changed to say “Product Identification Number” (PIN) instead of “Model Number” because PIN would allow tracking of specific products to the retailer, or consider asking model number and PIN. Another commenter requested flexibility where companies use unique product numbers to identify their products rather than a “model name and number.” The commenter also requested that a company be able to provide cards that allow consumers to insert the model information. Another commenter stated that NHTSA's registration rule requires either the model name or model number but not both. The commenter recommended allowing the manufacturer to preprint the model name or the model number, but not require both.

Response

The Commission recognizes that some manufacturers may not use a model name and model number. The final rule clarifies that if a manufacturer uses only one or the other, the manufacturer does not have to provide both on the product or registration form. Manufacturers do not have to create something they do not currently have. If they use both, then both should be provided. The Commission also believes that manufacturers who use unique product numbers, product descriptions, or other customarily used identifiers, such as a Product Identification Number (PIN) instead of a model number, should be allowed to provide those identifiers in place of the model number. The intent of the law is to make it easier for consumers to register their products and, therefore, manufacturers shall include on the registration card the manufacturer's name, model name and number, and date of manufacture, so consumers do not have to fill it in on the card themselves.

6. Coding Date of Manufacture

Comments

Two commenters requested that the rule allow the date of manufacture to be expressed in code. Both commenters pointed out that many manufacturers currently use date codes and they are considered acceptable under the ASTM International (ASTM) standards that apply to the infant and toddler products which are part of the Juvenile Products Manufacturers Association (JPMA) certification program. They also indicated that by allowing the use of a date code, or the month and year of manufacture, the CPSC would be consistent with its guidance on date coding for section 102 Conformity Certificates and section 103 Tracking Labels.

Response

The Commission agrees and has revised the final rule accordingly. These are recognized standard operating practices of manufacturers.

7. Section 103 Tracking Label Redundancy

Comments

Eight comments were received regarding the overlapping information required for labels in sections 103 and 104. Five of the eight commenters urged the Commission to allow manufacturers to combine the labeling information required for section 103 and section 104 into one label. One commenter stated that a durable infant and toddler product manufacturer must include both sets of identifying tracking information from section 103 and section 104. On the other hand, two commenters stated that they felt the tracking label required in section 103 should satisfy the labeling requirements of section 104 and products do not need to have both labels. Another commenter requested the CPSC to clarify that CPSIA section 104(f) is not intended to require that manufacturers attach to their products additional or duplicative labels if existing labels required by CSPC product safety standards or other laws contain the same information. One commenter urged the Commission to clarify in the final rule that labels are permitted as the “permanent marking” as long as they meet appropriate standards for permanence of attachment.

Response

The Commission agrees that it should not be necessary to have two marks with redundant information on a product. The final rule clarifies that manufacturers/importers may combine information required by section 103 with the section 104 registration information into one marking so long as all the information required by both sections is included. The final rule also clarifies the meaning of “permanent.” The preamble indicates that labels are permitted as the “permanent marking” as long as they can reasonably be expected to remain on the product during the useful life of the product.

8. Harmonize With NHTSA's Car Seat Registration Form

Comment

The Commission received two comments requesting that section 104 be harmonized with the NHTSA registration format. The commenters specifically identified the online registration page and uniform message and formatting as areas where harmonization is needed and requested the CPSC conform the minimum height requirements of the registration card to the NHTSA rule. The commenters also indicated that NHTSA's rule does not require small, pen-top blocks but, rather, allows the consumer to enter his/her name/address in free style which most manufacturers prefer.

Response

The Commission recognizes that manufacturers who already provide the NHTSA car seat registration card have a system in place and that allowing more similarity to the NHTSA registration cards will streamline their process for implementing the section 104 registration cards. The final rule provides more flexibility for the design of the registration card. The specifics are discussed below in section 10, Format Flexibility of Registration Card.

9. Format Flexibility of Registration Card

Comment

Twelve comments were received regarding the format and placement of the registration card. The majority of the commenters requested more flexibility, with some asking that the Commission consider making the form and format for the registration cards “recommended” or “safe harbor,” so that minor and possibly inadvertent variations in the type size, card size or font style of the registration cards, or of the labels added to the cards, would not result in a potential regulatory violation.

One commenter requested that fewer boxes be required per line to allow for printing variations. One commenter supported CPSC prescribing the text of the registration form to ensure that foreign manufacturers don't have any problems with translation issues. One commenter suggested adding “Required by Law” to the purpose statement on the card.

Response

The Commission agrees that more flexibility can be incorporated into the design, format, and placement of the registration card. The final rule includes the following changes:

1. Size of form: The form shall be two standard post cards connected with perforation for later separation. As defined by the United States Postal Service, the cards shall be at a minimum: 3½ inches high by 5 inches long by 0.007 inch thick.

2. Font size and typeface: All the information on the card shall be printed in bold typeface, capital and lower cases, and no less than 10-point with one exception being the purpose statement. The title of the purpose statement shall be all capitals, bold, and at a minimum 12-point typeface. The purpose statement shall be at a minimum 12-point, bold typeface with capital and lower case type.

3. Purpose Statement: Manufacturers that do not have a Web site must provide an e-mail address and state at the end of the purpose statement: “To register your product, please complete and mail this card or email your contact information, the model name and number, and date of manufacture of the product as provided on this card to: name@firmname.com”.

4. Consumer Information: The bottom front portion of the form shall have blocks for the consumer to provide his/her name, mailing address, telephone number, and email address. The blocks shall be 5 mm wide and 7 mm high. Manufacturers should use as many blocks as possible to fill the width of the card, allowing for normal printing practices. Staff believes the use of blocks encourages consumers to print their information in a more legible format than free-style writing.

10. Effective Date for Final Rule

Comments

Three comments were received regarding the time for implementation. All three indicated that one year is needed to reasonably implement section 104 requirements. The commenters stated that with the increase in manufacturing overseas their companies needed more time to determine a method for collecting the registration card information and creating a database to store the information, as well as to identify how the registration cards will be inserted into the packaging for the covered products. They also expressed the need to coordinate the registration information with websites and internet access especially for companies that do not have a pre-existing infrastructure for consumer registration.

Response

The Commission believes that six months from publication of the final rule is reasonable and adequate for implementation of the rule for the original 12 product categories listed in the NPR. The CPSIA was enacted more than 15 months ago and manufacturers have been on notice of the requirement for registration for these twelve items since enactment. Moreover, the Commission must provide a report to Congress on the effectiveness of the program not later than four years after the date of enactment. Manufacturers who produce the additional six items specified in the proposed final rule should have one year from publication of the final rule to implement the registration cards and database. It is possible that manufacturers who produce one or more of the original 12 product categories and one or more of the additional six items would be able to implement the process sooner than one year for the additional six items.

11. Retaining Registration Card Information

Comments

The Commission received three comments regarding the retention of registration card information. The first commenter requested the CPSC clarify that the registration cards themselves do not have to be retained for six years, but rather the information on the card must be retained. The second comment suggested that consumer information for high quality cribs should be retained for no less than 10 years. The third commenter suggested that the CPSC should have the authority to require manufacturers to keep the information longer than six years if they have reason to believe a recall may be pending because of numerous consumer complaints about the product.

Response

Section 104(d)(3) of the CPSIA states that each manufacturer of a durable infant or toddler product shall maintain a record of registrants for each product manufactured that includes all of the information provided by each consumer registered. Thus, the information, but not necessarily the registration form itself, must be retained. The same section states that each manufacturer shall maintain such a record for a period of not less than six years after the date of manufacture of the product. The Commission believes six years of data retention is adequate. This is the same record retention period as NHTSA has in its child restraint registration rule. If manufacturers want to keep the data for a longer period they have that option, but the Commission does not believe it is necessary to specify a longer time for certain products.

12. Electronic/E-Mail Registration

Comment

Ten comments were received regarding electronic/email registration. All comments favored allowing manufacturers to set up a registration page on their website for consumers to use instead of the registration card. Comments also favored allowing firms that do not have a website to provide for consumers to register through email. Some commenters suggested that for email registrations, clear and conspicuous instructions must be provided for the consumer to know what should be provided in the email to register and that an automatic reply should be sent to the consumer to confirm that the information was received.

A number of the commenters requested flexibility in how they set up the page and requested that the CPSC not restrict navigation to other pages on the website. Several requested that an email address be required if a consumer registers on-line. One commenter suggested that registration pages be clearly separated from any product marketing sections of a company's Web site.

A commenter stated that the CPSC should not insist that each product come with a postage paid consumer registration form if both the retail outlet and the consumer will accept an alternative, non-intrusive and protected, method of electronic, web based registration instead.

One commenter supported allowing consumers to change or update their information on the internet. However, another commenter expressed concern that permitting an on-line “change of address” option for consumers could lead to the unintended deletion of properly registered consumers from the database.

Response

The Commission agrees that allowing consumers to register their product via a company Web site or by providing an e-mail for the consumer to send the required registration information may facilitate a larger response from consumers than just using the registration cards. The Commission believes that manufacturers should have flexibility in setting up their Web page but should clearly separate the registration page from any advertisement. By preventing additional information or advertising from appearing on the registration page, the benefits of a standardized registration form are maintained, helping to improve the rate of registration. Companies that do not have a Web site must provide an e-mail address to allow consumers to e-mail their registration information. These companies must set up an automatic reply so consumers can confirm that their registration information was received. Electronic/e-mail registration does not replace the mandatory requirement stated in section 104(d)(1)(A) of the CPSIA that each manufacturer of a durable infant or toddler product must provide consumers with a postage-paid consumer registration form with each such product.

13. Other Issues

Comment

One commenter suggested that the CPSC should consider carefully the penalties for violation of using the consumer information collected with the registration cards for some purpose other than the safety alert or recall.

Response

The final rule includes a requirement that manufacturers not use the consumer registration information for any purpose other than notifying the consumer in the event of a recall or safety alert. Thus, if a manufacturer actually misuses the information, they would be violating a consumer product safety rule which is a prohibited act under section 19 of the CPSA and would subject the manufacturer to penalties under section 20 of the CPSA. Other federal and state laws governing consumer privacy may also be implicated by the inappropriate use of the information collected with the registration form which should also serve as a deterrent to such inappropriate use.

C. Description of the Final Rule

The final rule is substantially the same as what the Commission proposed in June. The Commission has made some changes, mostly in response to comments on the proposed rule.

1. Scope and Definitions—§§ 1130.1 & 1130.2

The purpose section in 1130.1(a) remains the same as the proposal. In the scope section 1130.1(b), the NPR stated that child restraint systems covered by NHTSA registration program would not be subject to the Commission's registration rule. The final rule clarifies that the consumer product registration requirements would not apply to products that are part of a travel system which is covered by NHTSA's registration requirements for child restraint systems. Thus, for example, a stroller base that is sold with an infant carrier that is covered by NHTSA's registration program would not need a separate Commission registration form.

As discussed in section B of this preamble, the Commission is maintaining the 180-day effective date it had proposed, but is establishing a compliance date of 180 days for the 12 product categories listed in the CPSIA and a compliance date of one year for the additional six products enumerated in the final rule. Although the Commission received three comments requesting a longer effective date, the Commission believes that 180 days from publication of the final rule should be adequate for these 12 product categories. The Commission also notes that the final rule provides more flexibility in the formatting of the registration forms and is more consistent with the NHTSA registration requirements. One of the comments requesting a longer effective date was submitted by a group of manufacturers who make child restraint systems for automobiles. These changes to the final rule should ease implementation. As discussed later in this preamble, the scope of the final rule will cover eighteen product categories specifically identified in the rule rather than all products that could fit within the narrative definition of “durable infant or toddler product.”

The Commission is revising two definitions in section 1130.2. As mentioned, the final rule provides a list of the durable infant or toddler products covered by the rule. The CPSIA defines the term “durable infant or toddler product” with a broad narrative definition—“a durable product intended for use, or that may be reasonably expected to be used, by children under the age of 5 years”—and then lists twelve specific examples. The proposal would have required registration for all durable infant or toddler products that fell within the narrative part of the statutory definition as well as the specific products listed. The preamble to the proposal attempted to give some guidance on what the Commission believed would fit within the narrative part of the definition. Numerous comments on the NPR observed that, even with this preamble discussion, it remained unclear what products would be covered by the registration requirement. After considering the comments, the Commission agrees that without a specific list of products it could be difficult for manufacturers to determine if their products are subject to registration.

The final rule defines “durable infant or toddler product” as the twelve specific product categories listed in the CPSIA definition and the six additional products that the NPR preamble specifically noted would be considered by the Commission staff to be durable infant or toddler products: children's folding chairs, changing tables, infant bouncers, infant bath tubs, bed rails and infant slings. Four of these products (children's folding chairs, changing tables, infant bouncers, and bed rails) are part of the Juvenile Products Manufacturers Association (“JPMA's”) certification program, which certifies products to the applicable ASTM standards, as are the products specifically listed in the statutory definition. As noted in the NPR preamble, the Commission staff believes that these products are similar to other products specifically listed in the statutory definition. A changing table is similar to other nursery products, such as cribs and cradles, which are listed, and it is under the same ASTM subcommittee (F15.18) as cribs, toddler beds, play yards, bassinets and cradles. Bed rails are similar to “gates and other enclosures for confining a child,” an enumerated category. Infant bath tubs are similar to bath seats, and some were at one time covered by the same ASTM standard as bath seats. Infant slings are similar to infant or child carriers which are explicitly covered. A voluntary standard for slings is currently under development. The Commission may add other products to the list in the future through notice and comment rulemaking.

As to definitions of each listed product, if there is a relevant mandatory Commission standard for the product, the definition in the Commission standard would govern. If there is no mandatory standard for the product, manufacturers should refer to the definition of the product in the appropriate voluntary standard.

The definition of “manufacturer” in the final rule differs from that in the proposal. The preamble to the NPR discussed that section 104(d) applies to “manufacturers” of durable infant or toddler products and that the definition of “manufacturer” in the Consumer Product Safety Act includes an importer. 15 U.S.C. 2052(a)(11). The NPR preamble requested comments concerning which party, the importer or a manufacturer should have the primary responsibility for the registration obligations mandated by section 104 of the CPSIA. As discussed further in section B of this preamble, the Commission received several comments concerning this issue. The Commission has decided to clarify in the definition of “manufacturer” that, for purposes of this rule, for a product produced within the United States, the “manufacturer” (and the party that is responsible for product registration) is the domestic manufacturer of the product. For a foreign-made product, for purposes of this rule, the “manufacturer” is the importer of the product.

As the preamble to the NPR discussed, the statutory provision does not require the retailer of a durable infant or toddler product to establish or maintain a registration program. The NPR preamble discussed the possibility of allowing other parties—such as retailers, distributors or private labelers—to establish and maintain a registration program or allowing a manufacturer and importer to arrange among themselves who would run the registration program. The Commission requested comments on this issue. One comment suggested allowing parties other than the manufacturer to contract with the manufacturer agreeing to undertake the responsibility for registration. The commenter suggested that the Commission could then release the manufacturer from liability, similar to the provision of guaranties that is permitted under the Flammable Fabric Act (“FFA”). The Commission has considered this suggestion. However, while the FFA explicitly provides for guaranties, no such statutory permission is given for such an arrangement under the CPSIA with regard to registration cards. Thus, the Commission believes that it must remain the obligation of the manufacturer of a durable infant or toddler product to ensure that the product complies with the registration requirements. While nothing prohibits a manufacturer from arranging for another party to undertake the registration program, the Commission will look to the manufacturer as the party that is ultimately responsible for compliance with the registration requirements under section 104 of the CPSIA and the requirements of this part.

The other definitions in this section remain the same as proposed.

2. General Requirements—§ 1130.3

The general requirements in section 1130.3 are primarily a restatement of the statutory requirements in section 104(d)(1) and (3) of the CPSIA and remain unchanged from the proposal. The section requires each manufacturer of a durable infant or toddler product to provide consumers with a postage-paid consumer registration form with each product; maintain a record of the contact information of consumers who register their products with the manufacturer; and permanently place the manufacturer's name and contact information, model name and number, and the date of manufacture on each durable infant or toddler product. This section also prohibits the manufacturer from using or disseminating the consumer information collected under these requirements to any other party for any purpose other than notification of the consumer in the event of a product recall or safety alert.

3. Manufacturer and Product Identification on the Product—§ 1130.4

Section 104(d)(1)(C) of the CPSIA requires the manufacturer to permanently place the manufacturer's name and contact information, model name and number, and the date of manufacture on each durable infant or toddler product. As in the proposal, section 1130.4 repeats this statutory requirement and specifies that the required information must be in English, legible, and in a location on the product that is conspicuous to the consumer. In response to comments, the final rule adds several clarifications to this section. If a manufacturer regularly uses only a model name or only a model number, it is not necessary to create a model name or number solely in order to comply with the registration requirement. Similarly, if a manufacturer uses a product identification number (“PIN”) or other identification number rather than a model number, he/she may use that number to identify the product on the registration card. This section of the final rule makes these clarifications. This section further clarifies that the date to be marked on the product shall include the month and year of manufacture, and that it is permissible to state the date in code.

Some comments asked about the requirement that the marking be permanent. To clarify this requirement, the Commission is adding a provision explaining that a permanent mark is one that can reasonably be expected to remain on the product during the useful life of the product. Thus, an adhesive label could be used, so long as it meets this requirement.

The NPR preamble discussed that section 103 of the CPSIA requires that all children's products must have permanently marked on the product certain identifying information (the manufacturer or private labeler, location and date of production and cohort information), sometimes called tracking labels. The marking requirements in section 104 and in section 103 are similar, but not identical. The NPR preamble asked for comments on the interplay between these two marking provisions.

Although some commenters requested that one marking suffice for the other, the Commission believes that the statute requires that manufacturers of durable infant or toddler products comply with the marking requirements of both section 103 and section 104. Manufacturers may choose whether to place the necessary identifying information in one location or not, so long as all of the required information is provided on the product. Such a marking would need: The name of the manufacturer, contact information, location and date of manufacture, model name and number, and batch or run number (or other identifying characteristic). A new subsection (c) in section 1130.4 explains that the product identification required under this section may be combined with other information on the product.

4. Requirements for Registration Forms—§ 1130.5

Section 1130.5 remains unchanged from the proposal. With the exception of requiring compliance with particular text and format specifications and requiring that information be in English, the requirements for registration forms stated in this section are explicitly directed by section 104(d)(2) of the CPSIA. This section requires registration forms to:

• Comply with specified text and format requirements;

• State all information in English;

• Be attached to the surface of each durable infant or toddler product so that the consumer must notice and handle the form after purchasing the product;

• Include the manufacturer's name, model name and number for the product and the date of manufacture;

• Include an option to register using the internet; and

• Include a statement that information the consumer provides will only be used to facilitate a recall or safety alert.

5. Format Requirements—§ 1130.6

Section 1130.6 prescribes the registration form's size and layout. It is substantially the same as proposed. The changes reflect some clarifications and also some greater flexibility. Section 1130.6(a) establishes the size of the form. This section of the final rule now sets a minimum size for the registration forms rather than requiring that they must be a specified size. The form must be at least the size of two standard post cards connected together with a perforated line so that the portions can be separated. Each of the two portions must be at least 3½ inches high by 5 inches wide by 0.007 inches thick. This is the measurement the Postal Service specifies for a standard post card. It is also the same measurement that NHTSA's child restraint registration requirements establish as a minimum for its registration forms. The proposal did not specify a thickness for the forms. However, since both the Postal Service and the NHTSA child restraint registration requirements specify the thickness of a standard post card, the final rule clarifies this and specifies a thickness. The Commission believes that requiring a minimum size will allow some flexibility and allow for minimal variations in production but will still provide for uniformity.

Requirements for the layout of the top of the form, which provides the purpose statement and the manufacturer's contact information, remain unchanged from the proposal.

Section 1130.6(b)(3) prescribes the format for the bottom of the form. This section now explicitly states that the registration form must be postage paid. This is a requirement stated in the CPSIA and also stated elsewhere in the rule. For the sake of clarity, that requirement is also stated in this section (it was not stated in this section in the NPR).

Proposed section 1130.6(c) required that the registration form use Arial Black typeface. In order to allow more flexibility, the final rule does not specify a particular typeface. It does, however, require that the type be in bold, black type. The type size requirement remains unchanged from the proposal (at least 12-point for the purpose statement and no less than 10-point for all other information on the form). The final rule also specifies that the title of the purpose statement must be in all capitals, and the other information must be in capital and lower case type. This is a clarification because the illustration of the registration form in both the proposed and final rule shows capital and lower case letters in this way.

6. Text Requirements—§ 1130.7

The final rule makes a few changes to the text requirements in the proposal, primarily to provide more flexibility. As in the proposal, the final rule requires a purpose statement explaining the purpose of the registration form. The final rule adds a a sentence to the purpose statement for manufacturers to use if they do not have a website and instead provide an email address.

Requirements for the manufacturer and product information remain unchanged from the proposal. As for the consumer information, the proposed rule specified a certain number of blocks on the form for consumers to supply their contact information. Some comments requested that the form not require any blocks. The Commission believes that providing blocks for consumers to write their contact information will likely make the information more legible. Section 104(d)(2)(B) of the CPSIA requires that the form permit easy, legible recording. Therefore, the final rule continues to require blocks, but does not require any particular number of blocks. As in the proposal, the final rule requires that blocks for consumer information be 5 mm wide and 7 mm high. However, rather than requiring a particular number of blocks, the final rule requires only that the forms have as many blocks as possible to fill the width of the card while allowing for normal printing practices.

Requirements for the product information portion of the registration form remain unchanged.

7. Requirements for Internet Registration or Alternative E-Mail Registration—§ 1130.8

Section 104(d)(2)(F) of the CPSIA requires that the registration form include the option of registering the product through the internet. Section 1130.8 of the final rule prescribes requirements for website registration: requiring a link to the registration page, a purpose statement, and certain requirements for the content of the registration page.

The final rule, like the proposal, restricts the website's registration page to only requesting the consumer's name, address, telephone number, email address, product name and number and the date of manufacture. The Commission specifically asked for comments on whether there is a need to restrict navigation to other pages or Web sites.

The final rule requires a few additional restrictions for Web sites than the proposal. The final rule prohibits on the electronic registration form any other information than identification of the manufacturer or a link to the manufacturer's home page, a field to confirm submission of the registration form, and a prompt to indicate any incomplete or invalid fields before the form is submitted. The final rule also states that accessing the registration form shall not cause additional screens or electronic banners to appear.

The Commission believes that these are minimal restrictions necessary to separate product registration from any other purposes of the website. These restrictions are very similar to those that NHSTSA states in its registration rule for child restraint systems.

As discussed in the NPR preamble, the Commission recognizes that some companies may not have a Web site, and such companies could allow customers to register their product by e-mail. The final rule adds a subsection (d) to section 1130.8 to clearly state that providing registration through e-mail is an alternative for manufacturers who do not have a Web site. The subsection also requires that the e-mail address be set up so that the consumer will receive an automatic reply confirming receipt of the registration information. This should decrease the possibility of a consumer entering the same registration multiple times if he/she is uncertain whether the information was received.

8. Recordkeeping and Notification—§ 1130.9

This section of the final rule remains unchanged from the proposal. In accordance with the CPSIA, section 1130.9 requires that each manufacturer of a durable infant or toddler product maintain a record of registrants for each product manufactured that includes all of the information provided by the consumer. The rule requires the manufacturer to use the information the consumer provides to notify the registrant if the product is the subject of a recall or safety alert. As the statute mandates, and as proposed, the final rule requires that the manufacturer maintain a record of the registration information for no less than 6 years after the date of manufacture of the product. Both the statue and the rule require that the information be maintained, but neither requires the manufacturer to retain the actual registration card itself.

D. Effective Date

The Commission proposed that the rule would become effective 180 days after publication of the final rule in the Federal Register. As discussed in the previous sections of the preamble, the Commission received three comments expressing concern that this 6-month period would be too short and requesting one year instead. The final rule retains the 180-day compliance date and sets a 180-day compliance date for the product categories specifically listed by example in the statutory definition of durable infant or toddler product: full-size cribs and nonfull-size cribs; toddler beds; high chairs, booster chairs, and hook-on chairs; bath seats; gates and other enclosures for confining a child; play yards; stationary activity centers; infant carriers; strollers; walkers; swings; and bassinets and cradles. The Commission is providing a one-year compliance date for the six products the final rule adds to the listed products: children's folding chairs, changing tables, infant bouncers, infant bath tubs, bed rails and infant slings. These six products were previously identified in the NPR preamble, but were not specifically listed in the text of the NPR. Therefore, the Commission is providing additional time for these products to comply with the registration requirements.

The rule will apply to products manufactured on or after the applicable compliance date.

E. Regulatory Flexibility Analysis or Certification

The Regulatory Flexibility Act (“RFA”) generally requires that agencies review proposed rules for their potential economic impact on small entities, including small businesses. However, section 104(d)(1) of the CPSIA removes this requirement for promulgating the rule implementing the CPSIA's consumer registration provision. Consequently, no regulatory flexibility analysis or certification is necessary.

F. Paperwork Reduction Act

Section 104(d)(1) of the CPSIA also excludes this rulemaking from requirements of the Paperwork Reduction Act, 44 U.S.C. sections 3501 through 3520. Consequently, no Paperwork Reduction Act analysis is necessary.

G. Environmental Considerations

The Commission's regulations provide a categorical exemption for the Commission's rules from any requirement to prepare an environmental assessment or an environmental impact statement as they “have little or no potential for affecting the human environment.” 16 CFR 1021.5(c)(2). This final rule falls within the categorical exemption.

List of Subjects in 16 CFR Part 1130

Administrative practice and procedure, Business and industry, Consumer protection, Reporting and recordkeeping requirements.

Therefore, the Commission amends Title 16 of the Code of Federal Regulations by adding part 1130 to read as follows:

PART 1130—REQUIREMENTS FOR CONSUMER REGISTRATION OF DURABLE INFANT OR TODDLER PRODUCTS

Sec.
1130.1 Purpose, scope and effective date.
1130.2 Definitions.
1130.3 General requirements.
1130.4 Identification on the product.
1130.5 Requirements for registration form.
1130.6 Requirements for format of registration form.
1130.7 Requirements for text of registration form.
1130.8 Requirements for website registration or alternative email registration.
1130.9 Recordkeeping and notification requirements.
FIGURE 1 TO PART 1130—FRONT OF REGISTRATION FORM
FIGURE 2 TO PART 1130—BACK OF REGISTRATION FORM

Authority: 15 U.S.C. 2056a, 2065(b).

§ 1130.1 Purpose, scope, and effective date.

(a) Purpose. This part prescribes a consumer product safety rule establishing requirements for consumer registration of durable infant or toddler products. These requirements are intended to improve the effectiveness of recalls of, and safety alerts regarding, such products.

(b) Scope. Part 1130 applies to manufacturers, including importers, of durable infant or toddler products, as defined in § 1130.2(a). It does not apply to infant or child restraint systems intended for use in automobiles that are covered by the registration program of the National Highway Traffic and Safety Administration (NHTSA) at 49 CFR 571.213, or to products that comprise a travel system, and are sold with a child restraint system that is covered by the NHTSA registration program at 49 CFR 571.213.

(c) Compliance Date. Compliance with this part 1130 shall be required on June 28, 2010 for the following products: full-size cribs and nonfull-size cribs; toddler beds; high chairs, booster chairs, and hook-on chairs; bath seats; gates and other enclosures for confining a child; play yards; stationary activity centers; infant carriers; strollers; walkers; swings; and bassinets and cradles. Compliance with this part 1130 shall be required on December 29, 2010 for the following products: Children's folding chairs, changing tables, infant bouncers, infant bath tubs, bed rails and infant slings. The rule shall apply to durable infant or toddler products, as defined in § 1130.2(a), that are manufactured on or after those dates.

§ 1130.2 Definitions.

In addition to the definitions given in section 3 of the Consumer Product Safety Act (15 U.S.C. 2052), the following definitions apply:

(a) Durable infant or toddler product means the following products, including combinations thereof:

(1) Full-size cribs and non-full-size cribs;

(2) Toddler beds;

(3) High chairs, booster seats, and hook-on chairs;

(4) Bath seats;

(5) Gates and other enclosures for confining a child;

(6) Play yards;

(7) Stationary activity centers;

(8) Infant carriers;

(9) Strollers;

(10) Walkers;

(11) Swings; and

(12) Bassinets and cradles;

(13) Children's folding chairs;

(14) Changing tables;

(15) Infant bouncers;

(16) Infant bathtubs;

(17) Bed rails;

(18) Infant slings.

(b) Manufacturer, for purposes of this part, in the case of a product produced within the United States, means the domestic manufacturer of the product, and in the case of an imported product, means the importer of the product.

(c) Product recall means action taken pursuant to sections 12, 15(c) or 15(d) of the CPSA (15 U.S.C. 2061, 2054(c), or 2064(d)), and action taken pursuant to a corrective action plan implemented by a company in cooperation with the Commission, where the firm is conducting one or more of the following: repair of the product; replacement of the product; or refund of the purchase price of the product.

(d) Safety alert means notice or warning of a potential problem with an individual product or class of products so that consumers and other users of the affected products respond accordingly to reduce or eliminate the potential for injury.

§ 1130.3 General requirements.

(a) Each manufacturer of a durable infant or toddler product shall:

(1) Provide consumers with a postage-paid consumer registration form that meets the requirements of this part 1130 with each such product;

(2) Maintain a record in accordance with the requirements set forth in § 1130.9 of the contact information (names, addresses, e-mail addresses, and telephone numbers) of consumers who register their products with the manufacturer under this part 1130;

(3) Permanently place the manufacturer name and contact information, model name and number, and the date of manufacture on each durable infant or toddler product in accordance with the requirements set forth in § 1130.4.

(b) Consumer information collected by a manufacturer pursuant to the requirements of this part 1130 shall not be used by the manufacturer, nor disseminated by the manufacturer to any other party, for any purpose other than notification to such consumer in the event of a product recall or safety alert.

§ 1130.4 Identification on the product.

(a) Each durable infant or toddler product shall be permanently marked with the manufacturer name, and contact information (U.S. address and telephone number, toll free if available) model name and number, and date of manufacture.

(1) If the manufacturer regularly uses only a model name or a model number, but not both, to identify the product, he/she may provide only the model name or number rather than creating a model name or number for the sole purpose of this part 1130.

(2) If the manufacturer regularly identifies the product by a product identification number (“PIN”) or other similar identifying number rather than a model number, he/she may provide that identifying number instead of a model number.

(3) The date referred to in paragraph (a) of this section shall include the month and year of manufacture and can be stated in code.

(4) A permanent mark is one that can reasonably be expected to remain on the product during the useful life of the product.

(b) The information required by this section shall be in English, legible, and in a location that is conspicuous to the consumer.

(c) The information required by this section may be combined with other information marked on the product.

§ 1130.5 Requirements for registration forms.

The registration form required under § 1130.3(a)(1) shall:

(a) Comply with the format and text requirements set forth in §§ 1130.6 and 1130.7 as shown in figures 1 and 2 of this part;

(b) State all information required by this part 1130 in the English language;

(c) Be attached to the surface of each durable infant or toddler product so that, as a practical matter, the consumer must notice and handle the form after purchasing the product;

(d) Include the manufacturer's name, model name and number for the product, and the date of manufacture;

(e) Include an option for consumers to register through the Internet;

(f) Include the statement required in § 1130.7(a) that information provided by the consumer shall not be used for any purpose other than to facilitate a recall of or safety alert regarding that product.

§ 1130.6 Requirements for format of registration forms.

(a) Size of form. The form shall be at least the size of two standard post cards connected with perforation for later separation, so that each of the two portions is at least 3½ inches high by 5 inches wide by 0.007 inches thick.

(b) Layout of form. (1) General. The form shall consist of four parts: Top and bottom, divided by perforations for easy separation, and front and back.

(2) Top of form. The top portion of the form is to be retained by the consumer. The front top portion shall provide the purpose statement set forth in § 1130.7(a). The back of the top portion shall provide the manufacturer's contact information as required in § 1130.7(b).

(3) Bottom of form. The bottom portion of the form is to be returned to the manufacturer. The bottom front panel shall have blocks for the consumer to provide his/her contact information as required in § 1130.7(c). Below the consumer contact information shall be product information as required in § 1130.7(d) which may be printed on the form or provided on a pre-printed label placed on the form by the manufacturer. The back of the bottom portion of the form shall be pre-addressed and postage-paid with the manufacturer's name and mailing address where registration information is to be collected.

(c) Font size and typeface. The registration form shall use bold black typeface. The size of the type shall be at least 12-point for the purpose statement required in § 1130.7(a) and no less than 10-point for the other information in the registration form. The title of the purpose statement shall be in all capitals. All other information shall be in capital and lower case type.

§ 1130.7 Requirements for text of registration form.

(a) Purpose statement. The front top portion of each form shall state: “PRODUCT REGISTRATION FOR SAFETY ALERT OR RECALL. We will use the information provided on this card to contact you only if there is a safety alert or recall for this product. We will not sell, rent, or share your personal information. To register your product, please complete and mail this card or visit our online registration at http://www.websitename.com.” Manufacturers that do not have a Web site may provide an email address and state at the end of the purpose statement: “To register your product, please complete and mail this card or email your contact information, the model name and number and date of manufacture of the product as provided on this card to: name@firmname.com”.

(b) Manufacturer and product information. The back of the top portion of the form shall state the manufacturer's name and contact information (a U.S. mailing address, a telephone number, toll free if available), Web site address, product model name and number (or other identifier as described in § 1130.4(a)(1) and (2)), and manufacture date of the product.

(c) Consumer information. The bottom front portion of the form shall have blocks for the consumer to provide his/her name, address, telephone number, and email address. These blocks shall be 5 mm wide and 7 mm high, with as many blocks as possible to fill the width of the card allowing for normal printing practices.

(d) Product information. The following product information shall be provided on the back of the bottom portion of the form below the blocks for customer information printed directly on the form or on a pre-printed label that is applied to the form: The manufacturer's name, the model name and number (or other identifier as described in § 1130.4(a)(1) and (2)), and the date of manufacture of the product. A rectangular box shall be placed around the model name, model number and manufacture date.

§ 1130.8 Requirements for Web site registration or alternative e-mail registration.

(a) Link to registration page. The manufacturer's Web site, or other Web site established for the purpose of registration under this part 1130, shall be designed with a link clearly identified on the main web page that goes directly to “Product Registration.”

(b) Purpose statement. The registration page shall have the following statement at the top of the page: “PRODUCT REGISTRATION FOR SAFETY ALERT OR RECALL ONLY. We will use the information provided on this page only to contact you if there is a safety alert or recall for this product. We will not sell, rent, or share your personal information. If you register on this Web site you do not need to fill out the card that came with your product.”

(c) Content of registration page. The Web site registration page shall request only the consumer's name, address, telephone number, e-mail address, product model name and number, and the date of manufacture. The consumer's telephone number and e-mail address shall not be required for the consumer to submit the registration form. No other information shall appear on the electronic registration form, except for identification of the manufacturer or a link to the manufacturer's home page, a field to confirm submission, and a prompt to indicate any incomplete or invalid fields before submission. Accessing the electronic registration form shall not cause additional screens or electronic banners to appear.

(d) Alternative for manufacturers without a Web site. A manufacturer that lacks a Web site shall provide for consumers to register their product through e-mail. Such e-mail addresses shall be set up to provide an automatic reply to confirm receipt of the consumer's registration information.

§ 1130.9 Recordkeeping and notification requirements.

(a) Each manufacturer of a durable infant or toddler product shall maintain a record of registrants for each product manufactured that includes all of the information provided by each consumer registered.

(b) Each manufacturer of a durable infant or toddler product shall use the information provided by the registrant to notify the registrant in the event of a voluntary or involuntary recall of, or safety alert regarding, such product.

(c) Each manufacturer of a durable infant or toddler product shall maintain a record of the information provided by the registrant for a period of not less than 6 years after the date of manufacture of the product.

BILLING CODE 6355-01-P

Dated: December 17, 2009.
Todd Stevenson,
Secretary, U.S. Consumer Product Safety Commission.

[FR Doc. E9-30485 Filed 12-28-09; 8:45 am]

BILLING CODE 6355-01-C